DEPARTMENT OF THE INTERIOR

Bureau of Indian Affairs

Notice of Intent To Prepare an Environmental Impact Statement for the Moapa Solar Energy Center on the Moapa River Indian Reservation, Clark County NV

AGENCY: Bureau of Indian Affairs, Interior.

ACTION: Notice.

SUMMARY: The Bureau of Indian Affairs, in cooperation with the Moapa Band of Paiute Indians and other Federal agencies, intends to prepare an Environmental Impact Statement (EIS) that evaluates a solar energy generation center on the Moapa River Indian Reservation. This notice announces the beginning of the scoping process to solicit public comments and identify potential issues related to the EIS. It also announces that two public scoping meetings will be held in Nevada this summer to identify potential issues, alternatives, and mitigation to be considered in the EIS. ID30

DATES: Written comments on the scope of the EIS or implementation of the proposal must arrive by September 5, 2012. The dates of the public scoping meetings will be published in the Las Vegas Sun, Las Vegas Review-Journal, and Moapa Valley Progress 15 days before the scoping meetings.

ADDRESSES: You may mail, email, or hand carry written comments to either Mr. Paul Schlafly, Natural Resource Specialist, Bureau of Indian Affairs, Southern Paiute Agency, 180 North 200 East Suite 111, P.O. Box 720, St. George, Utah 84770; telephone: (435) 674-9720; email: paul.schlafly@bia.gov, or Ms. Amy Heuslein, Regional Environmental Protection Officer, BIA Western Regional Office, 2600 North Central Avenue, 4th Floor Mailroom, Phoenix, Arizona 85004; telephone: (602) 379-6750; email: amy.heuslein@bia.gov.

SUPPLEMENTARY INFORMATION: The Proposed Action consists of constructing and operating a solar generation energy center, consisting of a Photovoltaic (PV), installation up to 100 Megawatts (MW), and Concentrated Solar Power (CSP), installation up to 100 MW in size on the Moapa River Indian Reservation in Clark County, Nevada. The proposed solar energy project is referred to as the Moapa Solar Energy Center (Project).

The facility would be located on tribal lands held in trust for the Moapa Band. The proposed transmission line interconnection and access road corridor associated with the project will be located on Federal lands administered and managed by BLM.

The project would:

• Help to provide a long-term, diverse, and viable economic revenue base and job opportunities for the Moapa Band while

• Help Nevada and neighboring states to meet their State renewable energy needs. The Project would

• Allow the Moapa Band, in partnership with the developer, to optimize the use of the lease site while maximizing the potential economic benefit to the Tribe.

The Bureau of Indian Affairs will prepare the EIS in cooperation with the Moapa Band of Paiute Indians, the Bureau of Land Management (BLM), the U.S. Fish and Wildlife Service, the Environmental Protection Agency (EPA), and Nellis Air Force Base. The EIS will provide a framework for BIA and BLM to make determinations and take Federal actions. The Federal action for BIA would be to approve or deny a lease and any associated rights-of-way (ROW) on tribal lands for the proposed solar facility and for BLM to grant, grant with modifications or deny the ROW application for a proposed transmission line and access road. EPA and Nellis Air Force Base may adopt the documentation to make decisions under their authority and the Moapa Band may also use the EIS to make decisions under their Tribal Environmental Policy Ordinance. The U.S. Fish and Wildlife Service will review the document for consistency with the Endangered Species Act, as amended, and other implementing acts.

The goals of this EIS are to:

(1) Provide agency decision makers, the Moapa Band, and the general public with a comprehensive understanding of the impacts of the proposed solar energy center development project and alternatives on the Reservation;

(2) Describe the cumulative impacts of increased development on the Reservation; and

(3) Identify and propose mitigation measures that would minimize or prevent significant adverse impacts.

This EIS will analyze the proposed project and appurtenant features, viable alternatives including other interconnection options, and the No Action alternative. Other alternatives may be identified in response to issues raised during the scoping process.

The Project would be located in Township 16 South, Range 64 East, Sections 30 and 31 Mount Diablo Meridian, Nevada. For the purposes of this EIS, the “Analysis Area” will include approximately 1,000 acres of land entirely located on the Reservation and the corridors for the transmission interconnection and access road located on Federal land managed by BLM.

The project would be fenced and contain up to two components. One would consist of the construction and operation of up to a 100 MW PV solar plant and associated facilities on 500 acres. The PV project would include up to 175,000 crystalline PV panels, a single-axis tracking system, inverters, and an operation and maintenance building. Construction of the PV component is expected to take up to 12 months and is expected to have a project life of 25 years.

The second component would be located on an adjacent 500 acre parcel and be a CSP installation using either:

• eSolar's state-of-the-art CSP plant technology—the basic building block of eSolar's CSP technology consists of twenty-four 250-foot tall tower/receiver combinations situated between north and south-facing subfields of heliostat mirrors. The heliostats are mounted on an above-ground frame, elevated approximately three feet from ground level to minimize dust collection and allow for easy access for maintenance. This module (the tower/receiver and associated heliostat mirrors) is repeated as needed to provide the full output of the CSP power plant design. The focused solar heat boils water within the thermal receiver and produces steam. The steam from each thermal receiver is aggregated and sent to a steam turbine that generates electricity. The steam then reverts back to water through cooling and is routed back to the tower/receivers where the process repeats.

• AREVA Solar's Compact Linear Fresnel Reflector—AREVA Solar's core technology, Compact Linear Fresnel Reflector, uses modular flat reflectors to focus the sun's heat onto elevated receivers with a height of approximately 80 feet which consist of a system of tubes through which water flows. The concentrated sunlight boils the water in the tubes, generating high-pressure superheated steam for direct use in power generation without the need for heat exchangers.

The CSP solar field generates steam and energy when sun light is present. The water supply required for the project would be leased from the Moapa Band. Other major parts of the CSP project would include an operation and maintenance facility building along with cooling towers and evaporation ponds. The CSP project is expected to take 24 months to construct and expected to operate for approximately 25 to 30 years.

A single overhead 230 kilovolt (kV) transmission line would connect the solar energy center to the nearby Harry Allen 230 kV Substation approximately six miles from the site. An additional interconnection line could be constructed to the Crystal Substation located approximately one mile east of project boundary. An access road would be constructed to the project site to provide access from Interstate-15 (I-15). This new road would be constructed between the site and the frontage road on the west side of I-15 for approximately 2.5 miles.

Submission of Public Comments

Please include your name, return address, and the caption “EIS, Moapa Solar Energy Center Project,” on the first page of any written comments. You may also submit comments at the public scoping meetings.

The public scoping meetings will be held to further describe the Project and identify potential issues and alternatives to be considered in the EIS. The first public scoping meeting will be held on the Reservation and the other public scoping meeting will be held in Las Vegas, Nevada. The dates of the public scoping meetings will be included in notices to be posted in the Las Vegas Sun, Las Vegas Review-Journal, and Moapa Valley Progress 15 days before the meetings.

Public Comment Availability

Comments, including names and addresses of respondents, will be available for public review at the mailing address shown in the ADDRESSES section during regular business hours, 8 a.m. to 4:30 p.m., Monday through Friday, except holidays. Before including your address, phone number, email address, or other personal identifying information in your comment, you should be aware that your entire comment—including your personal identifying information—may be made publicly available at any time.

Authority

This notice is published in accordance with 40 CFR 1501.7 of the Council of Environmental Quality regulations and 43 CFR 46.235 of the Department of the Interior Regulations implementing the procedural requirements of the NEPA (42 U.S.C. 4321 et seq.), and in accordance with the exercise of authority delegated to the Principal Deputy Assistant Secretary—Indian Affairs by part 209 of the Department Manual.

Dated: July 26, 2012.
Donald E. Laverdue,
Acting Assistant Secretary, Indian Affairs.

[FR Doc. 2012-19078 Filed 8-3-12; 8:45 am]

BILLING CODE 4310-W7-P